DEPARTMENT OF LABOR

Employment and Training Administration

[TA-W-59,144]

Liu's Garment, Inc.; San Francisco, CA; Notice of Termination of Investigation

Pursuant to Section 221 of the Trade Act of 1974, as amended, an investigation was initiated on April 3, 2006 in response to a worker petition filed on behalf of workers at Liu's Garment, Inc., San Francisco, California.

The Department has been unable to locate company officials of the subject firm or other knowledgeable persons to obtain the information necessary to reach a determination on worker group eligibility. Consequently, further investigation in this case would serve no purpose, and the investigation has been terminated.

Signed at Washington, DC, this 11th day of May 2006.
Richard Church,
Certifying Officer, Division of Trade Adjustment Assistance.

[FR Doc. E6-7947 Filed 5-23-06; 8:45 am]

BILLING CODE 4510-30-P